DEPARTMENT OF THE INTERIOR

Bureau of Land Management

DEPARTMENT OF ENERGY

Western Area Power Administration

[LLWY920000.51010000.ER0000-LVRWK09K1160; WYW177893; COC72929; UTU87238; NVN86732]

Notice of Intent To Prepare an Environmental Impact Statement for the TransWest Express 600 kV Direct Current Transmission Project in Wyoming, Colorado, Utah, and Nevada (DOE/EIS-0450), and Notice of Potential for Land Use Plan Amendments

AGENCY: Bureau of Land Management, Interior; Western Area Power Administration, Department of Energy.

ACTION: Notice of Intent.

SUMMARY: The Bureau of Land Management (BLM) Wyoming State Office, Cheyenne, Wyoming, intends to prepare an Environmental Impact Statement (EIS) analyzing the impacts of a right-of-way (ROW) application for the TransWest Express 600-kilovolt (kV) Direct Current Transmission Project (Project) and potential land use plan amendments. The Western Area Power Administration (Western) is a joint lead agency with the BLM for the EIS preparation. Western is a power-marketing agency within the Department of Energy (DOE) and is proposing to jointly own the Project with TransWest Express, LLC. TransWest Express, LLC is a wholly-owned subsidiary of the Anschutz Corporation. The EIS will be prepared in accordance with the National Environmental Policy Act of 1969, as amended (NEPA).

DATES: This notice initiates a 90-day public scoping period that will assist in the preparation of a Draft EIS. The scoping period will end on April 4, 2011, or 15 days after the date of the last public scoping meeting, whichever is later.

To provide the public an opportunity to review the proposal and project information, the BLM and Western expect to hold 22 open-house meetings at various locations in Wyoming, Colorado, Utah, and Nevada during the public scoping period. The exact dates, times, and locations for these meetings will be announced at least 15 days prior to the event through local media, newspapers, newsletters, and posting on the BLM Web site at http://www.blm.gov/wy/st/en/info/NEPA/HighDesert/transwest.html. To be considered in the Draft EIS, comments must be received prior to the close of the scoping period.

ADDRESSES: You may submit comments related to the Project by any of the following methods:

Mail: Bureau of Land Management, Wyoming State Office, TransWest Express Transmission Project, P.O. Box 20678, 5353 Yellowstone Road, Cheyenne, Wyoming 82003, Attention: Sharon Knowlton.

E-mail: TransWest_WYMail@blm.gov.

Web site: http://www.blm.gov/wy/st/en/info/NEPA/HighDesert/transwest.html.

FOR FURTHER INFORMATION CONTACT: Sharon Knowlton, BLM Project Manager; telephone (307) 775-6124; e-mail: TransWest_WYMail@blm.gov; mailing address: BLM, Wyoming State Office, P.O. Box 20678, Cheyenne, Wyoming 82003.

For information about Western's involvement, contact Liana Reilly, Western NEPA Document Manager; telephone (720) 962-7253; e-mail: reilly@wapa.gov; address: Western Area Power Administration, P.O. Box 281213, Lakewood, Colorado 80228-8213.

For general information on the DOE's NEPA review procedures or on the status of a NEPA review, contact Carol M. Borgstrom, Director of NEPA Policy and Compliance, GC-54, U.S. Department of Energy, 1000 Independence Avenue, SW., Washington, DC 20585, telephone (202) 586-4600 or toll free at (800) 472-2756.

SUPPLEMENTARY INFORMATION: Under Federal law, the BLM, the U.S. Forest Service (USFS), and the Bureau of Reclamation (Reclamation) are each responsible for responding to right-of-way (ROW) applications for lands within their respective jurisdictions. Some of the land that may be considered for this right-of-way is within the jurisdictions of the USFS and Reclamation. The USFS and Reclamation are cooperating agencies in the preparation of this EIS. This notice announces the beginning of a 90-day public scoping process for the EIS.

TransWest Express, LLC has filed a ROW application with the BLM, the USFS, and Reclamation proposing to construct, operate, maintain, and decommission the Project. The Project consists of an overhead transmission line extending approximately 725 miles from south-central Wyoming crossing Colorado and Utah, with a potential interconnection at the Intermountain Power Project near Delta, Utah, and terminating at the Marketplace Hub in southern Nevada. This Project would include two AC/DC converter stations, about 200 acres in size at each terminating point, a fiber optic network communications system, and two ground electrode facilities, each about 600 acres in size. When completed, this Project would transmit about 3,000 megawatts of electricity per year generated primarily from renewable resources at planned facilities in Wyoming.

The requested right-of-way width on Federal lands is 250 feet. The proposal would predominantly use steel lattice towers 100 to 180 feet in height with average spans between towers of 900 to 1,500 feet. Temporary access roads up to 24-feet wide would be required. Temporary workspace would be needed during construction for batch plant sites, structure work areas and materials storage, conductor tensioning sites, and vehicles and equipment. Proposed routes cross Federal, State and private lands and include portions of designated utility corridors on Federal land and parallel portions of existing overhead and underground utilities and roadways, as well as portions of undisturbed areas.

Under Section 402 of the American Reinvestment and Recovery Act (Recovery Act), 42 U.S.C. 16421a, Public Law 111-5, 123 Stat. 141, Div A, Title IV, 402 (2009) (adding Section 301 to the Hoover Power Plant Act of 1984, Pub. L. 98-381, Title III, 301), Western may borrow funds from the United States Treasury to construct, finance, facilitate, plan, operate, maintain, and/or study construction of new or upgraded electric power transmission lines and related facilities with at least one terminus in Western's marketing area, that deliver or facilitate the delivery of power from renewable resources constructed or reasonably expected to be constructed after the date of enactment of the Recovery Act. Western is proposing to participate as a joint owner in the Project and as part of that proposal, Western is evaluating obtaining the ROWs necessary for those portions of the Project on private and State lands. Western may also apply for ROW grants over part of the Federal land and if this occurs, TransWest Express would concurrently modify its application to describe the remaining portions of the Federal land.

Actions that result in a change in the scope of resource uses, terms and conditions, and decisions of Federal agency land use plans may require amendment of those plans. Approval of this proposal may result in the amendment(s) of USFS Land Management Plans (LMPs) and BLM Resource Management Plans (RMPs). Because of the congestion in the Las Vegas, Nevada area an alternative may be considered that would require a National Park Service (NPS) Management Plan amendment to implement. As required by 43 CFR 1610.2(c), the BLM notifies the public of potential amendments to RMPs and, pursuant to 36 CFR 219.9, the USFS notifies the public of potential amendments to LMPs. Any authorizations and actions proposed for approval in the EIS will be evaluated to determine if they conform to the decisions in the referenced land use plans. If amendments are needed, the BLM and the USFS would integrate the land-use planning process as described in 43 CFR part 1610 and 36 CFR 219.8, respectively, with this EIS process as they proceed with NEPA compliance for the proposed Project. If the BLM or the USFS determine that plan amendments are necessary, compliance with NEPA for any land use plan amendments would occur simultaneously with the consideration of the Project.

The BLM plans that may be amended include the Colorado Canyons National Conservation Area RMP, the Rawlins RMP, the Rock Springs RMP, the Kemmerer RMP, the Grand Junction RMP, the Glenwood Springs RMP, the Little Snake RMP, the White River RMP, the Cedar-Beaver-Garfield-Antimony RMP, the House Range RMP, the Warm Springs RMP, the Kanab RMP, the Moab RMP, the Price RMP, the Richfield RMP, the St. George RMP, the Vernal RMP, Beaver Dam Wash Area of Critical Environmental Concern RMP, the Ely RMP, the Caliente RMP, and the Las Vegas RMP. The USFS Plans that may be amended include the Ashley National Forest Plan, the White River National Forest Revised Plan, the Dixie National Forest Plan, the Fishlake National Forest Plan, the Manti-La Sal National Forest Plan, the Uinta National Forest Plan, the Humboldt National Forest Plan, and the Toiyabe National Forest Plan. The NPS Plan that may be considered for amendment is the Lake Mead National Recreation Area Lake Management Plan. Only the BLM may amend a BLM RMP; only the USFS may amend a Forest Plan; and only the NPS may amend a National Park Service Plan. The NPS is not a formal cooperator in this EIS so any plan amendment process it may undertake would be considered separately.

A Programmatic EIS was prepared by the Department of the Interior and the Department of Energy for energy corridors in 11 western States and completed in January 2009. The Records of Decision for this EIS designated energy transmission corridors and provided guidance, best management practices, and mitigation measures to be used for any power lines proposed to be constructed within the corridors. The Project proposes to use the corridors identified in the ROD to the maximum extent possible. No BLM plan amendments will be needed if the right-of-way remains within designated corridors.

The BLM and Western are joint lead agencies for this EIS as defined at 40 CFR 1501.5. Agencies with jurisdiction by law or special expertise have been invited to participate as cooperating agencies in preparation of the EIS. The following agencies have agreed to participate as cooperating agencies: The USFS, Intermountain Region; the U.S. Army Corps of Engineers South Pacific Division; Reclamation, Lower Colorado Region; the U.S. Navy Region Southwest; the States of Wyoming, Colorado, Utah, and Nevada; Garfield, Mesa, Moffat, and Rio-Blanco counties in Colorado; Beaver, Duchesne, Emery, Juab, Millard, Piute, Sanpete, Uintah, Wasatch, and Washington counties in Utah; Lincoln and Clark counties in Nevada and the Little Snake River Conservation District, Medicine Bow Conservation District, Saratoga-Encampment-Rawlins Conservation District, and Sweetwater County Conservation District, Wyoming. The Paiute Indian Tribe of Utah, the Moapa Band of Paiute, and the Las Vegas Paiute Tribe are also cooperating agencies.

During the public scoping period, the BLM and Western will solicit public comments on behalf of all cooperating agencies regarding issues, concerns, and opportunities that should be considered in the analysis of the proposed action. Comments on issues and potential impacts, or suggestions for additional or different alternatives may be submitted to the addresses listed in the ADDRESSES section. Documents pertinent to the ROW application for the project may be examined at:

• BLM, Wyoming State Office, 5353 Yellowstone Road, Cheyenne, Wyoming 82009.

• BLM, Rawlins Field Office, 1300 N. Third Street, Rawlins, Wyoming 82301.

• BLM, Rock Springs Field Office, 280 Highway. 191 N., Rock Springs, Wyoming 82901.

• BLM, Little Snake Field Office, 455 Emerson Street, Craig, Colorado 81625.

• BLM, White River Field Office, 220 East Market Street, Meeker, Colorado 81641.

• BLM, Grand Junction Field Office, 2815 H Road, Grand Junction, Colorado 81506.

• BLM, Cedar City Field Office, 176 D.L. Sargent Drive, Cedar City, Utah 84721.

• BLM, Fillmore Field Office, 35 East, 500 North, Fillmore, Utah 84631.

• BLM, Kanab Field Office, 318 North, 100 East, Kanab, Utah 84741.

• BLM, Moab Field Office, 82 E. Dogwood, Moab, Utah 84532.

• BLM, Price Field Office, 125 South, 600 West, Price, Utah 84501.

• BLM, Richfield Field Office, 150 East, 900 North, Richfield, Utah 84701.

• BLM, St. George Field Office, 345 East Riverside Drive, Saint. George, Utah 84790.

• BLM, Salt Lake Field Office, 2370 South, 2300 West, Salt Lake City, Utah 84119.

• BLM, Vernal Field Office, 170 South, 500 East, Vernal, Utah 84078.

• BLM, Egan Field Office, 702 North Industrial Way, HC33, Ely, Nevada 89301.

• BLM, Caliente Field Office, U.S. Highway. 93, Building. #1, Caliente, Nevada 89008.

• BLM, Las Vegas Field Office, 4701 N. Torrey Pines Drive, Las Vegas, Nevada 89130.

• USFS (Lead Forest Office), Dixie National Forest Office, 1789 North Wedgewood Lane, Cedar City, Utah 84721.

Your entire comment—including your personal identifying information—may be made publicly available at any time. While you may ask us in your comment to withhold your personal identifying information from public review, we cannot guarantee that we will be able to do so.

The public scoping will help determine relevant issues that can influence the scope of the environmental analysis, alternatives, and the process for developing the EIS. The BLM and the USFS, other agencies, cooperators, and individuals have preliminarily identified the following issues that will be addressed in the EIS: Socioeconomic impacts; public health and safety; plant and animal species (including special and sensitive status species, desert tortoise and sage-grouse); cultural resources and historic sites; visual intrusions; lands with wilderness characteristics; national scenic and historic trails; wild and scenic rivers; and inventoried roadless areas on National Forests.

Public meetings will also be held during the scoping period. The BLM staff, Western staff, and Project proponents will be available at the public meetings to explain Project details and gather information from interested individuals or groups. The USFS and other cooperating agencies are expected to participate in the public meetings. The BLM, Western, and cooperating agencies will also provide additional opportunities for public participation upon publication of the Draft EIS.

Because the proposed Project may involve activities and construction in floodplains or wetlands, this NOI also serves as a notice of proposed floodplain or wetland action, in accordance with DOE regulations for Compliance with Floodplain and Wetlands Environmental Review Requirements, 10 CFR 1022.12(a). The EIS will include a floodplain/wetland assessment and, if required, a floodplain statement of findings will be issued with the Final EIS or in the RODs issued by Western, the BLM, and the USFS, if any.

The BLM and Western will use and coordinate the NEPA commenting process to satisfy the public involvement process for Section 106 of the National Historic Preservation Act, 16 U.S.C. 470f, as provided for in 36 CFR 800.2(d)(3). Consultation with Native American Tribes will be conducted in accordance with applicable policies, and Tribal concerns, including impacts on Indian trust assets, will be given due consideration. Federal, State, and local agencies, along with other stakeholders that may be interested or affected by the BLM, USFS, or Western's decisions on the project are invited to participate in the scoping process and, if eligible, may request or be requested by the BLM and Western to participate as a cooperating agency.

Timothy J. Meeks,
Administrator, Western Area Power Administration.
Donald A. Simpson,
Wyoming State Director, Bureau of Land Management.

[FR Doc. 2010-33180 Filed 1-3-11; 8:45 am]

BILLING CODE 4310-22-P